COMMITTEE FOR PURCHASE FROM PEOPLE WHO ARE BLIND OR SEVERELY DISABLED

Procurement List; Proposed Addition and Deletions

AGENCY: Committee for Purchase From People Who Are Blind or Severely Disabled.

ACTION: Proposed Addition to and Deletions from the Procurement List.

SUMMARY: The Committee is proposing to add a product to the Procurement List that will be furnished by a nonprofit agency employing persons who are blind or have other severe disabilities, and deletes products previously furnished by such agencies.

Comments Must Be Received on or Before: 2/7/2016.

ADDRESSES: Committee for Purchase From People Who Are Blind or Severely Disabled, 1401 S. Clark Street, Suite 715, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION:

This notice is published pursuant to 41 U.S.C. 8503 (a)(2) and 41 CFR 51-2.3. Its purpose is to provide interested persons an opportunity to submit comments on the proposed actions.

Addition

If the Committee approves the proposed addition, the entities of the Federal Government identified in this notice will be required to procure the product listed below from the nonprofit agency employing persons who are blind or have other severe disabilities.

The following product is proposed for addition to the Procurement List for production by the nonprofit agency listed:

Product

NSN(s)—Product Name(s): MR 381—Gift Box, Sweet Treat, Christmas

Mandatory Source(s) of Supply: Winston-Salem Industries for the Blind, Inc., Winston-Salem, NC

Mandatory Purchase For: Military commissaries and exchanges in accordance with the Code of Federal Regulations, Chapter 51, 51-6.4.

Contracting Activity: Defense Commissary Agency

Distribution: C-List

Deletions

The following products are proposed for deletion from the Procurement List:

Products

NSN(s)—Product Name(s):

7510-01-600-8033—Dated 2015 18-month Paper Wall Planner, 24″ × 37″

7510-01-600-8044—Dated 2015 12-Month 2-Sided Laminated Wall Planner, 24″ × 37″

Mandatory Source(s) of Supply: The Chicago Lighthouse for People Who Are Blind or Visually Impaired, Chicago, IL

Contracting Activity: General Services Administration, FSS Household and Industrial Furniture, Arlington, VA

NSN(s)—Product Name(s):

7510-01-600-7560—Monthly Wall Calendar, Dated 2015, Jan-Dec, 8-½″×11″

7530-01-600-7569—Daily Desk Planner, Dated 2015, Wire bound, Non-refillable, Black Cover

7510-01-600-7574—Wall Calendar, Dated 2015, Wire Bound w/Hanger, 12″ × 17″

7530-01-600-7603—Monthly Desk Planner, Dated 2015, Wire Bound, Non-refillable, Black Cover

7530-01-600-7613—Weekly Desk Planner, Dated 2015, Wire Bound, Non-refillable, Black Cover

7530-01-600-7628—Weekly Planner Book, Dated 2015, 5″ × 8″

7510-01-600-7631—Wall Calendar, Dated 2015, Wire Bound w/hanger, 15.5″ × 22″

Mandatory Source(s) of Supply: The Chicago Lighthouse for People Who Are Blind or Visually Impaired, Chicago, IL

Contracting Activity: General Services Administration, New York, NY

NSN(s)—Product Name(s): 4240-00-803-5839—Bag, Waterproof

Mandatory Source(s) of Supply: Winston-Salem Industries for the Blind, Inc., Winston-Salem, NC

Contracting Activity: W40M Northern Region Contract Ofc, Fort Belvoir, VA

Barry S. Lineback,
Director, Business Operations.

[FR Doc. 2016-00151 Filed 1-7-16; 8:45 am]

BILLING CODE 6353-01-P